ENVIRONMENTAL PROTECTION AGENCY

[FRL-7268-2]

Contractor and Subcontractor Access to Confidential Business Information Under the Clean Air Act

AGENCY: Environmental Protection Agency (EPA).

ACTION: Notice.

SUMMARY: The EPA has authorized prime contractors and subcontractors access to information that has been, or will be, submitted to EPA under sections 112 and 114 of the Clean Air Act (CAA). Some of the information may be claimed to be confidential business information (CBI) by the submitter.

EFFECTIVE DATES: Access to confidential data submitted to EPA will occur no sooner than September 6, 2002.

FOR FURTHER INFORMATION CONTACT: Roberto Morales, Document Control Officer, Office of Air Quality Planning and Standards (C404-02), EPA, Research Triangle Park, North Carolina 27711, (919) 541-0880.

SUPPLEMENTARY INFORMATION: The EPA is issuing the notice to inform all submitters of information under sections 112 and 114 of the CAA that EPA may provide to the contractors and subcontractors listed below access to those materials on a need-to-know basis:

1. Prime Contractor

Environmental Consulting and Research, Inc. (EC/R), 2327 Englert Drive, Suite 100, Durham, NC 27713. Contract 68D01055.

2. Prime Contractor

Environmental Consulting and Research, Inc. (EC/R), 2327 Englert Drive, Suite 100, Durham, NC 27713. Contract 68D01071.

Subcontractors: ICF, Inc., Cadmus, Menzie-Cura, TRJ (Ted Johnson), SBG (Susan B. Goldhabaer).

3. Prime Contractor

Environmental Consulting and Research, Inc. (EC/R), 2327 Englert Drive, Suite 100, Durham, NC 27713. Contract 68D01076.

Subcontractors: ICF, Inc., Eastern Research Group (ERG), Pacific Environmental Services (PES), MCNC, TRJ (Ted Johnson), SBG (Susan B. Goldhabaer), Jim Capel.

4. Prime Contractor

Eastern Research Group, Inc. (ERG), 110 Hartwell Avenue, Lexington, MA 02173. Contract 68D01078.

Subcontractors: Research Triangle Institute (RTI), EC/R, Inc., Alpha-Gamma Technologies, SKT Consulting Services, Inc..

5. Prime Contractor

Eastern Research Group, Inc. (ERG), 110 Hartwell Avenue, Lexington, MA 02173. Contract 69D01081.

6. Prime Contractor

ICF, Inc., 9300 Lee Highway, Fairfax, VA 22031. Contract 68D01052.

Subcontractors: EC/R, Inc., Alpha-Gamma Technologies, Inc., HeiTech Services, Inc., Dr. Deborah Amaral, Jim Capel, Douglas Crawford Brown, TRJ (Ted Johnson), Dr. Bradford Lyon, Dr. Thomas McKone.

7. Prime Contractor

Research Triangle Institute, 3040 Cornwallis Road, Research Triangle Park, NC 27709. Contract 68D01079.

Subcontractors: Caldwell Environmental, North State Engineering, Inc., Razor Environmental.

8. Prime Contractor

Pacific Environmental Services (PES), 5001 South Miami Boulevard, Research Triangle Park, NC 27709. Contract 68D01077.

Subcontractors: Alpha Gamma Technologies, SKT Consulting Services, Inc., Bennet King Environmental Consultant, Inc..

9. Prime Contractor

Research Triangle Institute (RTI), 3040 Cornwallis Road, Research Triangle Park, NC 27709. Contract 68D01073.

Subcontractor: The Kervic Company.

The contractors and subcontractors will provide technical support to the Office of Air Quality Planning and Standards in source assessment or with a source category survey and proceed through development of standards or control techniques guidelines, risk assessments, and national air toxics assessments.

In accordance with 40 CFR 2.301(h), EPA has determined that the above listed contractors and subcontractors require access to CBI submitted to EPA under sections 112 and 114 of the CAA in order to perform work satisfactorily under the above noted contracts. The contractors' and subcontractors' personnel will be given access to information submitted under sections 112 and 114 of the CAA. The contractors' personnel will be required to sign nondisclosure agreements and will be briefed on appropriate security procedures before they are permitted access to CBI. All contractor and subcontractor access to CAA CBI will take place at the contractors' or subcontractors' facilities. The contractors and subcontractors will have appropriate procedures and facilities in place to safeguard the CAA CBI to which the contractors and subcontractors have access.

Clearance for access to CAA CBI is scheduled to expire on September 30, 2006 under contracts 68D01055, 68D01071, 68D01076, 68D01078, 68D01081, 68D01052, 68D01079, 68D01077, and 68D1073.

Dated: August 14, 2002.
Robert Brenner,
Acting Assistant Administrator for Air and Radiation.

[FR Doc. 02-21751 Filed 8-26-02; 8:45 am]

BILLING CODE 6560-50-P